DEPARTMENT OF THE INTERIOR

Bureau of Land Management

[MTM 42163]

Public Land Order No. 7532; Revocation of Secretarial Order Dated May 2, 1908; Montana

AGENCY: Bureau of Land Management, Interior.

ACTION: Public Land Order.

SUMMARY: This order revokes a Secretarial Order in its entirety as to 50.00 acres of National Forest System land withdrawn for a Forest Service administrative site. The land is no longer needed for this purpose and the revocation is needed to facilitate a U.S. Army, Corps of Engineers' wetlands mitigation project. This action will open the land to such forms of disposition as may by law be made of National Forest System lands and to mining. The land has been and will remain open to mineral leasing.

EFFECTIVE DATE: September 5, 2002.

FOR FURTHER INFORMATION CONTACT: Ron Erickson, U.S. Forest Service, Region 1, P.O. Box 7669, Missoula, Montana 59807, (406) 329-3623.

SUPPLEMENTARY INFORMATION: By virtue of the authority vested in the Secretary of the Interior by Section 204 of the Federal Land Policy and Management Act of 1976, 43 U.S.C. 1714 (1994), it is ordered as follows:

1. The Secretarial Order dated May 2, 1908, which withdrew National Forest System land for the Swamp Creek Administrative Site, is hereby revoked in its entirety as to the following described National Forest System land:

Principal Meridian, Montana

Kootenai National Forest

T. 27 N., R. 30 W.,

Sec. 11, NE¼SE¼;

Sec. 12, W½W½NW¼SW¼.

The area described contains 50.00 acres in Lincoln County.

2. At 9 a.m. on September 5, 2002, the land will be opened to such forms of disposition as may by law be made of National Forest System lands, including location and entry under the United States mining laws, subject to valid existing rights, the provisions of existing withdrawals, other segregations of record, and the requirements of applicable law. Appropriation of any land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: July 18, 2002.
Rebecca W. Watson,
Assistant Secretary—Lands and Minerals Management.

[FR Doc. 02-19785 Filed 8-5-02; 8:45 am]

BILLING CODE 3410-11-P